DEPARTMENT OF STATE

[Public Notice: 12660]

Notice of Department of State Sanctions Actions Pursuant to the Executive Order Regarding Blocking Property With Respect to Specified Harmful Foreign Activities of the Government of the Russian Federation

SUMMARY: The Department of State is publishing the names of one or more persons that have been placed on the Department of Treasury's List of Specially Designated Nationals and Blocked Persons (SDN List) administered by the Office of Foreign Asset Control (OFAC) based on the Department of State's determination, in consultation with other departments, as appropriate, that one or more applicable legal criteria of the Executive Order regarding blocking property with respect to specified harmful foreign activities of the Government of the Russian Federation were satisfied. All property and interests in property subject to U.S. jurisdiction of these persons are blocked, and U.S. persons are generally prohibited from engaging in transactions with them.

DATES: See SUPPLEMENTARY INFORMATION section for applicable date(s).

FOR FURTHER INFORMATION CONTACT: Aaron P. Forsberg, Director, Office of Economic Sanctions Policy and Implementation, Bureau of Economic and Business Affairs, Department of State, Washington, DC 20520, tel.: (202) 647 7677, email: ForsbergAP@state.gov.

SUPPLEMENTARY INFORMATION:

Electronic Availability

The SDN List and additional information concerning sanctions programs are available on OFAC's website, https://ofac.treasury.gov/sanctions-programs-and-country-information/russian-harmful-foreign-activities-sanctions.

Notice of Department of State Actions

On February 23, 2024, the Department of State, in consultation with other departments, as appropriate, determined that the property and interests in property subject to U.S. jurisdiction of the following persons are blocked under the relevant sanctions authority listed below.

BILLING CODE 4710-07-P

BILLING CODE 4710-07-C

Vessels

1. YUZHMORGEOLOGIYA (UBSZ) Research Vessel Russia flag; Vessel Year of Build 1985; Vessel Registration Identification IMO 8724482 (vessel) [RUSSIA-EO14024] (Linked To: YUZHMORGEOLOGIYA AO).

Identified as property in which YUZHMORGEOLOGIYA AO, a person designated pursuant to E.O. 14024, has an interest.

2. GELENDZHIK (UFII) Research Vessel Russia flag; Vessel Year of Build 1989; Vessel Registration Identification IMO 8826230 (vessel) [RUSSIA-EO14024] (Linked To: YUZHMORGEOLOGIYA AO).

Identified as property in which YUZHMORGEOLOGIYA AO, a person designated pursuant to E.O. 14024, has an interest.

3. AKADEMIK PRIMAKOV (UBCQ4) Research Vessel Russia flag; Vessel Year of Build 1999; Vessel Registration Identification IMO 9187514 (vessel) [RUSSIA-EO14024] (Linked To: SEVMORNEFTEGEOFIZIKA AO).

Identified as property in which SEVMORNEFTEGEOFIZIKA AO, a person designated pursuant to E.O. 14024, has an interest.

4. PROFESSOR LOGACHEV (UADZ) Research Vessel Russia flag; Vessel Year of Build 1970; Vessel Registration Identification IMO 8834691 (vessel) [RUSSIA-EO14024] (Linked To: SEVMORNEFTEGEOFIZIKA AO).

Identified as property in which SEVMORNEFTEGEOFIZIKA AO, a person designated pursuant to E.O. 14024, has an interest.

5. AKADEMIK LAZEREV (UAJS) Research Vessel Russia flag; Vessel Year of Build 1987; Vessel Registration Identification IMO 8408985 (vessel) [RUSSIA-EO14024] (Linked To: SEVMORNEFTEGEOFIZIKA AO).

Identified as property in which SEVMORNEFTEGEOFIZIKA AO, a person designated pursuant to E.O. 14024, has an interest.

6. AKADEMIK NEMCHINOV (UETM) Research Vessel Russia flag; Vessel Year of Build 1988; Vessel Registration Identification IMO 8409032 (vessel) [RUSSIA-EO14024] (Linked To: SEVMORNEFTEGEOFIZIKA AO).

Identified as property in which SEVMORNEFTEGEOFIZIKA AO, a person designated pursuant to E.O. 14024, has an interest.

7. PROFESSOR RYABINKIN (a.k.a. PROFESSOR RJABINKIN) (UAJU) Research Vessel Russia flag; Vessel Year of Build 1989; Vessel Registration Identification IMO 8504923 (vessel) [RUSSIA-EO14024] (Linked To: SEVMORNEFTEGEOFIZIKA AO).

Identified as property in which SEVMORNEFTEGEOFIZIKA AO, a person designated pursuant to E.O. 14024, has an interest.

8. AKADEMIK ALEKSANDR KARPINSKIY (a.k.a. AK. A. KARPINSKIY; a.k.a. AKADEMIC ALEXANDER KARPINSKY) (UIZO) Research Vessel Russia flag; Vessel Year of Build 1984; Vessel Registration Identification IMO 8227238 (vessel) [RUSSIA-EO14024] (Linked To: JSC POLAR MARINE GEOSURVEY EXPEDITION).

Identified as property in which JSC POLAR MARINE GEOSURVEY EXPEDITION, a person designated pursuant to E.O. 14024, has an interest.

9. BAVENIT (UAIO) Drilling Ship Russia flag; Vessel Year of Build 1986; Vessel Registration Identification IMO 8406573 (vessel) [RUSSIA-EO14024] (Linked To: AMIGE AO).

Identified as property in which JSC POLAR MARINE GEOSURVEY EXPEDITION, a person designated pursuant to E.O. 14024, has an interest.

Amy E. Holman,
Principal Deputy Assistant Secretary, Bureau of Economic and Business Affairs, Department of State.

[FR Doc. 2025-02901 Filed 2-20-25; 8:45 am]

BILLING CODE 4710-07-P